NATIONAL AERONAUTICS AND SPACE ADMINISTRATION

[Notice: (20-062)]

National Space Council Users' Advisory Group; Meeting

AGENCY: National Aeronautics and Space Administration (NASA).

ACTION: Notice of meeting.

SUMMARY: In accordance with the Federal Advisory Committee Act, as amended, the National Aeronautics and Space Administration (NASA) announces a meeting of the National Space Council Users' Advisory Group (UAG). This will be the fifth meeting of the UAG.

DATES: Thursday, July 30, 2020, from 10:00 a.m.-1:00 p.m., Eastern Time.

ADDRESSES: Virtual meeting via dial-in teleconference and WebEx only.

FOR FURTHER INFORMATION CONTACT: As noted above, this meeting will be available telephonically and by WebEx only. You must use a touch-tone phone to participate in this meeting. Any interested person may dial the USA toll-free conference call number 1-844-467-4685 or toll number 1-720-259-7012, passcode 106724#, to participate in this meeting by telephone. The WebEx link is https://nasaenterprise.webex.com/; the meeting number is 199 379 7435, and password is tHiRkEk@574. To help facilitate public input in this all-virtual event, we invite appropriate written submissions to the UAG public email address at: contact@spacecounciluag.org, in addition to verbal input during the event.

The agenda for the meeting will include the following:

—Opening Remarks and Meeting Objectives by UAG Chair

—Expert Presentation on “Contributions of Historically Black Colleges and Universities (HBCUs) to Science, Engineering, and the Space Workforce”

—Reports and Updates from UAG Subcommittees:

• Exploration and Discovery

• National Security Space

• Technology and Innovation

• Economic Development/Industrial Base

• Outreach and Education

• Space Policy and International Engagement

—Deliberations on any Findings and Recommendations

—Other UAG Business and Work Plan Schedule; Closing Remarks

In accordance with 41 CFR parts 101-6 and 102-3, Federal Advisory Committee Management; Final Rule, Section 102-3.150(b), this meeting is being held with less than 15 calendar days' notice to accommodate the scheduling priorities of the key participants.

Patricia Rausch,
Advisory Committee Management Officer, National Aeronautics and Space Administration.

[FR Doc. 2020-15510 Filed 7-16-20; 8:45 am]

BILLING CODE 7510-13-P